DEPARTMENT OF HOUSING AND URBAN DEVELOPMENT

[Docket Nos. FR-4723-FA-09, FR-4800-FA-19, FR-4900-FA-17, and FR-4950-FA-14]

Announcement of Funding Awards for the Housing Opportunities for Persons with AIDS (HOPWA) Program, Fiscal Years 2002, 2003, 2004, and 2005

AGENCY: Office of the Assistant Secretary for Community Planning and Development, HUD.

ACTION: Notice of funding awards.

SUMMARY: In accordance with section 102(a)(4)(C) of the Department of Housing and Urban Development Reform Act of 1989, this announcement notifies the public of past funding decisions made by the Department in a competition for funding under the 2002, 2003, 2004 and 2005 Notices of Funding Availability (NOFAs) for the Housing Opportunities for Persons with AIDS (HOPWA) program. This announcement contains the names of the awardees and the amounts of the awards made available by HUD in 2002, 2003, 2004 and 2005. Federal Register notices on these actions were not published at the time; however, the public was advised of these grant selections since they were posted on HUD's Web site. The postings contained listings of the selected applicants including descriptions of the projects.

FOR FURTHER INFORMATION CONTACT: David Vos, Director, Office of HIV/AIDS Housing, Office of Community Planning and Development, 451 Seventh Street, SW., Room 7212, Washington, DC 20410-7000; telephone (202) 708-1934 (this is not a toll-free number). Hearing- and speech-impaired persons may access this number via TTY by calling the Federal Relay Service toll-free at (800) 877-8339. For general information on this and other HUD programs, call Community Connections at (800) 998-9999 or visit the HUD Web site at http://www.hud.gov.

SUPPLEMENTARY INFORMATION: The HOPWA program competition was designed to award grants for the renewal of continuing permanent supportive housing activities and for new projects, referred to as Special Projects of National Significance, that provide housing assistance and supportive services to persons and their families living with HIV/AIDS. Funds were made available for a three-year operating period starting the year following the respective competition.

New project grants were made under two categories of assistance: (1) Special Projects of National Significance which, due to their innovative nature or their potential for replication, are likely to serve as effective models in addressing the needs of low-income persons living with HIV/AIDS and their families; and (2) projects which are part of Long-Term Comprehensive Strategies (Long-Term) for providing housing and related services for low-income persons living with HIV/AIDS and their families in areas that do not receive HOPWA formula allocations.

For the Fiscal Year 2002 competition, a total of $28,755,493 was provided to 28 grant recipients nationwide. For the Fiscal Year 2003 competition, a total of $25,935,009 was provided to 25 grant recipients nationwide. For the Fiscal Year 2004 competition, a total of $20,175,475 was provided to 22 grant recipients nationwide. For the Fiscal Year 2005 competition, a total of $37,501,089 was provided to 35 grant recipients nationwide. Project information for all years was made available on the Department's Web site. Notices on these grant selections were inadvertently not published at the time in the Federal Register.

The HOPWA assistance made available in this announcement was authorized by the AIDS Housing Opportunity Act (42 U.S.C. 12901), as amended by the Housing and Community Development Act of 1992 (Pub. L. 102-550, approved October 28, 1992) and was appropriated by the HUD Appropriations Act for 2001. The grants competitions were included within the SuperNOFA (Notice of Funding Availability) announcements for HUD's Discretionary Programs published in the Federal Register on March 26, 2002 (67 FR 14457) for the Fiscal Year 2002 competition; April 25, 2003 (68 FR 21741) for the Fiscal Year 2003 competition; May 14, 2004 (69 FR 27633) for the Fiscal Year 2004 competition; and March 21, 2005 (70 FR 14110) for the Fiscal Year 2005 competition. Applications were reviewed and rated on the basis of selection criteria contained in each corresponding NOFA. This notice fulfills a required grants management action.

Dated: August 3, 2006.
Pamela H. Patenaude,
Assistant Secretary for Community Planning and Development.

Fiscal Year 2002 Funding Awards for the HOPWA Program
Recipient | State | Amount
Alaska Housing Finance Corporation | AK | $740,800.00
AIDS Alabama, Inc | AL | 480,580.00
Tenderloin AIDS Resource Center | CA | 1,302,645.00
Alameda Co. Housing and Community Development Corporation | CA | 1,370,000.00
Maui AIDS Foundation | HI | 1,324,743.00
Gregory House Programs | HI | 50,000.00
Travelers and Immigrants Aid/Chicago Connections | IL | 1,151,382.00
AIDS Foundation of Chicago | IL | 1,293,331.00
Pioneer Civic Services | IL | 440,166.00
Kansas Department of Health and Environment | KS | 1,370,000.00
Kentucky Housing Corporation | KY | 50,000.00
Desire Community Housing Corp | LA | 1,279,890.00
Action, Inc | MA | 1,292,869.00
Baltimore City Dept. of Housing & Community Development | MD | 1,370,000.00
Maryland Dept. of Health & Mental Hygiene, AIDS Foundation | MD | 1,139,977.00
AIDS Project | ME | 895,913.00
Clare Housing | MN | 1,150,583.00
Interfaith Residence dba Doorways | MO | 1,322,930.00
New Hampshire, Division of Behavioral Health, Office of Homeless and Housing Services | NH | 908,000.00
New Jersey Department of Health and Human Services | NJ | 925,653.00
United Bronx Parents, Inc | NY | 1,227,143.00
Bailey House Inc | NY | 1,286,000.00
Greyston Health Services, Inc | NY | 1,141,814.00
Oregon Housing and Community Services | OR | 706,965.00
Tarrant Co | TX | 813,346.00
Vermont Housing and Conservation Board | VT | 1,073,048.00
Downtown Emergency Service Center | WA | 1,307,305.00
Spokane Co. Community Services Dept | WA | 1,340,410.00
Total |  | 28,755,493.00

Fiscal Year 2003 Funding Awards for the HOPWA Program
Recipient | State | Amount
Alaska Housing Finance Corporation | AK | $731,120.00
Cochise County | AZ | 677,377.00
San Jose City | CA | 1,323,800.00
San Francisco Redevelopment Agency | CA | 1,286,000.00
The Salvation Army Alegria Program | CA | 1,010,991.00
I.M. Sulzbacher Center for the Homeless | FL | 1,186,841.00
City of Savannah, Georgia | GA | 299,278.00
Gregory House Programs | HI | 1,080,000.00
Idaho Housing And Finance Assn | ID | 1,314,000.00
Interfaith Residence, dba Doorways | IL | 342,238.00
AIDS Foundation of Chicago | IL | 1,280,742.00
Commonwealth of Kentucky | KY | 496,608.00
Community Healthlink, Inc | MA | 1,286,000.00
Cambridge Cares about AIDS, Inc | MA | 1,335,524.00
Health Care for the Homeless, Inc | MD | 1,083,657.00
Frannie Peabody Center | ME | 1,327,675.00
City of Detroit Health Department | MI | 1,370,000.00
Nebraska Dept. Health and Human Services | NE | 1,357,192.00
State of New Hampshire | NH | 607,545.00
The Fortune Society, Inc | NY | 1,132,788.00
Our House of Portland | OR | 1,306,963.00
Asociacion de Puertorriquenos en Marcha, Inc | PA | 1,286,000.00
Virgin Islands Community AIDS Resource and Education | VI | 1,158,225.00
Burlington Housing Authority | VT | 368,445.00
AIDS Resource Center of Wisconsin | WI | 1,286,000.00
Total |  | 25,935,009.00

Fiscal Year 2004 Funding Awards for the HOPWA Program
Recipient | State | Amount
AIDS Alabama, Inc | AL | $616,405.00
Pima County, Arizona, Community Development and Neighborhood Conservation Department | AZ | 945,443.00
Housing Services Affiliate of the Bernal Heights Neighborhood Ctr | CA | 537,270.00
Del Norte Neighbor Development Corporation | CO | 489,036.00
Delaware HIV Consortium | DE | 734,000.00
City of Key West, Community Development Office | FL | 1,422,000.00
City of Savannah, Community Planning and Development Division | GA | 710,696.00
Cornerstone Services, Inc | IL | 773,628.00
Lexington-Fayette Urban County Government, Division of Community Development | KY | 1,426,690.00
UNITY for the Homeless, Inc | LA | 540,139.00
Justice Resource Institute | MA | 1,137,716.00
Salvation Army | MN | 368,731.00
State of Montana, Department of Public Health and Human Services | MT, ND & SD | 1,450,800.00
Harbor Homes, Inc | NH | 525,457.00
Santa Fe Community Housing Trust | NM | 1,215,680.00
Church Avenue Merchants Block Association, Inc (CAMBA) | NY | 822,154.00
State of Oregon Department of Human Services | OR | 1,455,000.00
Rhode Island Housing and Mortgage Finance Corp (Sunrise Project) | RI | 1,265,606.00
Rhode Island Housing and Mortgage Finance Corp. (New Transitions Project) | RI | 766,355.00
AIDS Resource Center of Wisconsin | WI | 1,364,000.00
State of West Virginia Office of Economic Opportunity | WV | 1,001,581.00
State of Wyoming Department of Health | WY | 607,088.00
Total |  | 20,175,475.00

Fiscal Year 2005 Funding Awards for the HOPWA Program
Recipient | State | Amount
AIDS Alabama | AL | $502,679.00
Health Services Center, Inc | AL | 572,331.00
Alaska Housing Finance Corporation | AK | 757,675.00
County of Alameda | CA | 1,425,362.00
The Salvation Army, a California Corporation | CA | 281,326.00
Stanislaus Community Assistance Project | CA | 1,244,488.00
East Oakland Community Project | CA | 1,287,500.00
Colorado Health Network DBA Colorado AIDS Project | CO | 730,643.00
Connections Community Support Programs, Inc | DE | 1,339,000.00
Gulf Coast Jewish Services, Inc | FL | 1,339,000.00
Maui AIDS Foundation | HI | 1,381,120.00
AIDS Foundation of Chicago | IL | 1,132,016.00
Cornerstone Services, Inc | IL | 1,192,264.00
Heartland Human Care Services, Inc | IL | 1,020,510.00
Heartland Human Care Services, Inc | IL | 1,339,000.00
Pioneer Civic Services | IL | 406,443.00
Kentucky Housing Corporation | KY | 1,027,915.00
Odyssey House Louisiana, Inc | LA | 1,388,000.00
Frannie Peabody Center | ME | 990,976.00
City of Baltimore Heath Department | MD | 1,300,974.00
AIDS Interfaith Residential Services, Inc | MD | 1,018,355.00
State of Montana, Department of Public Health and Human Services | MT | 1,429,307.00
State of New Hampshire | NH | 824,120.00
City of Nashua, NH, Division of Public Health & Community Services | NH | 1,360,232.00
Bailey House, Inc | NY | 991,478.00
United Bronx Parents, Inc | NY | 1,338,999.00
Greyston Health Services | NY | 1,239,639.00
Regional HIV/AIDS Consortium | NC | 1,190,276.00
Calcutta House, Inc | PA | 741,268.00
Tarrant County | TX | 916,010.00
Alamo Area Resource Center | TX | 1,209,281.00
City of Dallas | TX | 773,839.00
State of Vermont | VT | 1,227,657.00
Spokane County | WA | 1,151,406.00
State of West Virginia, Office of Economic Opportunities | WV | 1,430,000.00
Total |  | 37,501,089.00

[FR Doc. E6-14250 Filed 8-28-06; 8:45 am]

BILLING CODE 4210-67-P